DEPARTMENT OF HOUSING AND URBAN DEVELOPMENT

[Docket No. FR-5498-N-01]

Reallocation of American Recovery and Reinvestment Act Capital Funds—Capital Fund Grant Program Under the American Recovery and Reinvestment Act of 2009

AGENCY: Office of the Assistant Secretary for Public and Indian Housing, HUD.

ACTION: Notice.

SUMMARY: The American Recovery and Reinvestment Act of 2009 (the Recovery Act) included a $4 billion appropriation of Capital Funds for public housing agencies (PHAs) to carry out capital and management activities, as authorized under section 9 of the United States Housing Act of 1937 (the 1937 Act). The Recovery Act required that $3 billion of these funds be distributed as formula funds and the remaining $1 billion be distributed through a competitive process. HUD obligated approximately $2.985 million in formula funds to PHAs on March 18, 2009. On May 7, 2009, HUD posted on its Web site its Notice of Funding Availability (NOFA), which launched the competitive distribution of Capital Funds. In September 2009, HUD announced the award of $995 million in Capital Fund Recovery Competition (CFRC) Grants. In accordance with the Recovery Act, HUD was required to reallocate any Recovery Act Capital Funds that were returned prior to the initial obligation deadline and/or recaptured.

After award, a number of grantees were subsequently unable to meet the NOFA and Recovery Act criteria and approximately $14 million in CFRC funds were recaptured. Additionally, another $3.2 million in Capital Fund Recovery Grant (CFRG) funds that were unable to meet the obligation deadline were recaptured. Since the Act required that HUD redistribute any grant funds that were not in compliance, $17,161,649.00 was awarded to pending Recovery Act PHA applicants who had applied for funding under Category 4, Option 2 of the NOFA Creation of Energy Efficient, Green Communities, consistent with the Department's objective of promoting energy efficiency. This notice announces the grantees that received the reallocated funds.

FOR FURTHER INFORMATION CONTACT: Dominique G. Blom, Deputy Assistant Secretary for Public Housing Investments, Office of Public Housing Investments, Office of Public and Indian Housing, Department of Housing and Urban Development, 451 7th Street, SW., Room 4130, Washington, DC, 20410-400, telephone number 202-402-8500 (this is not a toll-free number). Persons with hearing or speech impairments may access this number through the TTY by calling the toll-free Federal Information Relay Service at 800-877-8339.

SUPPLEMENTARY INFORMATION: The NOFA for HUD's CFRC Grants program made available $995 million to PHAs for capital and management activities as authorized under section 9 of the 1937 Act in accordance with four funding categories: (1) Improvements addressing the needs of the elderly and/or persons with disabilities; (2) public housing transformation; (3) gap financing for projects that are stalled due to financing issues; and (4) creation of energy efficient, green communities.

In accordance with the Recovery Act (Pub. L. 111-5, approved February 17, 2009), PHAs had to give priority to capital projects that could award contracts based on bids within 120 days from the date the funds were made available to the PHAs and had to prioritize capital projects that were already underway or included in the 5-year Capital Fund plans required by the 1937 Act. Additionally, funds had to supplement and not supplant expenditures from other Federal, State, or local sources or funds independently generated by the grantee. Finally, the Recovery Act provided for alternate obligation and expenditure deadlines (and penalties) as follows:

(1) HUD must obligate the CFRC grant funding to grantees by September 30, 2009.

(2) PHAs must obligate 100 percent of the grant funds awarded under this NOFA within 1 year of the date on which funds become available to the PHA for obligation (which is the effective date of the Annual Contributions Contract (ACC) amendment). If a PHA fails to comply with the 1-year obligation requirement, the Recovery Act required HUD to recapture all remaining unobligated funds awarded to the PHA, and to reallocate the recaptured funds to PHAs that are in compliance with the Recovery Act's obligation requirement.

(3) PHAs must expend at least 60 percent of the grant funds within 2 years of the date on which funds become available to the PHA for obligation (which is the effective date of the ACC amendment). If a PHA fails to comply with the 2-year expenditure requirement, the Recovery Act required HUD to recapture the balance of the funds awarded to the PHA, and to reallocate the recaptured funds to PHAs that are in compliance with the Recovery Act's 2-year expenditure requirement.

(4) PHAs must expend 100 percent of the grant funds within 3 years of the date on which funds become available to the PHA for obligation (which is the effective date of the ACC amendment). If a PHA fails to comply with the 3-year expenditure requirement, the Recovery Act required HUD to recapture the balance of the funds awarded to the PHA, and to reallocate the recaptured funds to PHAs that are in compliance with the Recovery Act's 3-year expenditure requirement.

Extensions of the obligation deadlines are not permitted under the Recovery Act.

Reallocation

After award, a number of grantees were subsequently unable to meet the Recovery Act and NOFA criteria and their funds were recaptured—$3.2 million in CFRG funds and approximately $14 million in CFRC funds. HUD was required to reallocate funds that were recaptured prior to July 21, 2010. The Dodd-Frank Wall Street Reform and Consumer Protection Act (Pub. L. 111-2003, approved July 21, 2010) (Dodd-Frank Act) amended the Recovery Act to provide that Recovery Act funds recaptured on or after July 21, 2010, must be returned to the Treasury. (See section 1613 of the Dodd-Frank Act.) As a result, $17,161,649.00 was awarded to existing eligible Recovery Act PHA applicants who had applied for funding under Category 4, Option 2 of the NOFA Creation of Energy Efficient, Green Communities, consistent with the Department's objective of promoting energy efficiency. The next eligible applications in Category 4, Option 2 that had been scored but had not been funded earlier (because grant funding had been exhausted) were awarded grants as follows:

PHA Name | Amount
Cambridge Housing Authority, Cambridge, MA | $2,189,470.00
New York City Housing Authority, New York, NY | 650,000.00
Housing Authority of Pleasantville, Pleasantville, NJ | 621,000.00
County of Marin Housing Authority, San Raphael, CA | 637,500.00
Housing Authority of the City of Columbus, Columbus, GA | 1,344,400.00
Housing Authority of the City of Columbus, Columbus, GA | 550,000.00
Housing Authority of Charleston, Charleston, SC | 1,990,528.00
Rockford Housing Authority, Rockford, IL | 2,100,000.00
Rockford Housing Authority, Rockford, IL | 1,700,000.00
Housing Authority of Monroe, Monroe, LA | 2,635,149.00
Housing Authority of the City of St. Louis, St. Louis, MO | 536,102.00
Southern Nevada Regional Housing Agency, Las Vegas, NV | 2,207,500.00
Total of Funded Applications | 17,161,649.00

Dated: March 11, 2011.
Sandra B. Henriquez,
Assistant Secretary for Public and Indian Housing.

[FR Doc. 2011-6762 Filed 3-22-11; 8:45 am]

BILLING CODE 4210-67-P